SMALL BUSINESS ADMINISTRATION

[Declaration of Disaster #3613]

State of Indiana

Vanderburgh County and the contiguous counties of Gibson, Posey, and Warrick in the State of Indiana; and Henderson County in the State of Kentucky constitute a disaster area due to damages caused by severe thunderstorms, flash flooding and wind that occurred on July 16 through July 17, 2004. Applications for loans for physical damage as a result of this disaster may be filed until the close of business on October 14, 2004 and for economic injury until the close of business on May 13, 2005 at the address listed below or other locally announced locations: U.S. Small Business Administration, Disaster Area 2 Office, One Baltimore Place, Suite 300,Atlanta, GA 30308.

The interest rates are:

| Percent
For Physical Damage
Homeowners With Credit Available Elsewhere | 5.750
Homeowners Without Credit Available Elsewhere | 2.875
Businesses With Credit Available Elsewhere | 5.500
Businesses and Non-profit Organizations Without Credit Available Elsewhere | 2.750
Others (Including Non-profit Organizations) With Credit Available Elsewhere | 4.875
For Economic Injury
Businesses and Small Agricultural Cooperatives Without Credit Available Elsewhere | 2.750

The number assigned to this disaster for physical damage is 361306 for Indiana and 361406 for Kentucky. The number assigned to this disaster for economic injury is 9ZO700 for Indiana and 9ZO800 for Kentucky.

(Catalog of Federal Domestic Assistance Program Nos. 59002 and 59008)
Dated: August 13, 2004.
Hector V. Barreto,
Administrator.

[FR Doc. 04-19194 Filed 8-20-04; 8:45 am]

BILLING CODE 8025-01-P